DEPARTMENT OF LABOR

Employment and Training Administration

Notice of Funding Opportunity and Solicitation for Grant Application (SGA) for Trade Adjustment Assistance Community College and Career Training Grants Program

AGENCY: Employment and Training Administration, Labor.

ACTION: Notice of Solicitation for Grant Applications (SGA).

Funding Opportunity Number: SGA/DFA PY 10-03.

SUMMARY: Through this notice, the Department of Labor's Employment and Training Administration (ETA) announces the availability of approximately $500 million in grant funds authorized in the Health Care and Education Reconciliation Act of 2010 (Reconciliation Act) from the Trade Adjustment Assistance Community College and Career Training Grants funding source to provide community colleges and other eligible institutions of higher education with funds to expand and improve their ability to deliver education and career training programs that can be completed in two years or less, are suited for workers who are eligible for training under the Trade Adjustment Assistance for Workers program, and prepare program participants for employment in high-wage, high-skill occupations. ETA intends to fund grants ranging from $2.5 million to $5 million for individual applicants and from $2.5 million to $20 million for consortium applicants with this SGA.

The complete SGA and any subsequent SGA amendments, in connection with the Workforce Investment Act and Health Care and Education Reconciliation Act of 2010 (Reconciliation Act) is described in further detail on ETA's Web site at http://www.doleta.gov or on http://www.grants.gov. The Web sites provide application information, eligibility requirements, review and selection procedures and other program requirements governing this solicitation.

DATES: The closing date for receipt of applications is April 21, 2011.

FOR FURTHER INFORMATION CONTACT: Melissa Abdullah, 200 Constitution Avenue, NW., Room N4716, Washington, DC 20210; telephone: 202-693-3346.

Signed at Washington, DC, this 13th day of January 2011.
Donna Kelly,
Grant Officer, Employment and Training Administration.

[FR Doc. 2011-986 Filed 1-20-11; 8:45 am]

BILLING CODE 4510-FM-P